DEPARTMENT OF HOMELAND SECURITY

Coast Guard

33 CFR Part 117

[CGD05-06-118]

RIN 1625-AA-09

Drawbridge Operation Regulations; Atlantic Intracoastal Waterway (AICW), Scotts Hill, NC

AGENCY: Coast Guard, DHS.

ACTION: Notice of temporary deviation from regulations.

SUMMARY: The Commander, Fifth Coast Guard District, has issued a temporary deviation from the regulation governing the operation of the Figure Eight Swing Bridge across the AICW mile 278.1, at Scotts Hill, North Carolina to perform needed mechanical and structural repairs.

DATES: This deviation is effective from 7 a.m. on January 3, 2007, to 7 a.m. on January 5, 2007.

FOR FURTHER INFORMATION CONTACT: Gary S. Heyer, Bridge Management Specialist, Fifth Coast Guard District, at (757) 398-6629.

SUPPLEMENTARY INFORMATION: The contractor, on behalf of the bridge owner, the Figure Eight Beach Homeowners Association, Inc., has requested a temporary deviation from the current operating regulation set out in 33 CFR 117.821(a)(4) which requires the drawbridge to open on signal for commercial vessels at all times and on signal for pleasure vessels on the hour and half hour. The contractor has requested the temporary deviation to close the Figure Eight Swing Bridge to navigation to perform needed repairs to the center-bearing mechanism of the swing span.

The concrete beneath 50% of the balance wheel track at the Figure Eight Swing Bridge has deteriorated and is in need of replacement. In order to replace the concrete, the balance wheels and track will be removed and the bad concrete hand-chipped out. Once the hand-chipping is complete, the rail will be reset and grouted. To facilitate this work, the Figure Eight Swing Bridge will be locked in the closed-to-navigation position from 7 a.m. on January 3, 2007 until and including 7 a.m. on January 5, 2007.

The Coast Guard has informed the known users of the waterway of the closure periods for the bridge so that these vessels can arrange their transits to minimize any impact caused by the temporary deviation.

In accordance with 33 CFR 117.35(c), this work will be performed with all due speed in order to return the bridge to normal operation as soon as possible. This deviation from the operating regulations is authorized under 33 CFR 117.35.

Dated: December 11, 2006.
Waverly W. Gregory, Jr.,
Chief, Bridge Administration Branch, Fifth Coast Guard District.

[FR Doc. E6-22152 Filed 12-26-06; 8:45 am]

BILLING CODE 4910-15-P